DEPARTMENT OF HEALTH AND HUMAN SERVICES

Centers for Disease Control and Prevention

[30Day-11-0728]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

The National Electronic Disease Surveillance System (NEDSS) (OMB Number 0920-0728 exp. 2/28/2011)—Extension—National Center for Public Health Informatics (NCPHI), Centers for Disease Control and Prevention (CDC).

Background and Brief Description

CDC is responsible for the dissemination of nationally notifiable diseases information and for monitoring and reporting the impact of epidemic influenza on mortality, Public Health Services Act (42 U.S.C. 241). Since April 1984, CDC National Center for Public Health Informatics Epidemiology Program Office (EPO) began working with the Council of State and Territorial Epidemiologists (CSTE) to demonstrate the efficiency and effectiveness of computer transmission of surveillance data between CDC and the State health departments.

By 1989, all 50 States were using this computerized disease surveillance system, which was then renamed the National Electronic Telecommunications System for Surveillance (NETSS) to reflect its national scope (OMB numbers 0920-0447 and 0920-0007).

Beginning in 1999, CDC, Epidemiology Program Office (EPO) worked with CSTE, State and local public health system staff, and other CDC disease prevention and control program staff to identify information categories and information technology standards to support integrated disease surveillance. That effort is now focused on development and completion of the National Electronic Disease Surveillance System (NEDSS), coordinated by CDC's National Center for Public Health Informatics, Division of Integrated Surveillance Systems and Services (DISSS).

States will continue to use portions of NETSS to transmit data to CDC. One of the reasons for providing NETSS to NEDSS data mapping is to identify what data elements in NETSS correspond to data elements in NEDSS. Those elements mapped from NETSS to NEDSS were collected in OMB number 0920-0007.

NEDSS will electronically integrate and link together a wide variety of surveillance activities and will facilitate more accurate and timely reporting of disease information to CDC and State and local health departments. Consistent with recommendations supported by our State and local surveillance partners and described in the 1995 report, Integrating Public Health Information and Surveillance Systems, NEDSS includes data standards, an Internet based communications infrastructure built on industry standards, and policy-level agreements on data access, sharing, burden reduction, and protection of confidentiality.

To support NEDSS, CDC has developed an information system, the NEDSS Base System (NBS), which uses NEDSS technical and information standards. The NBS is currently deployed to 16 States, including AL, AR, ID, MD, ME, MT, NE, NM, NV, RI, SC, TN, TX, VA, VT, and WY.

CDC is requesting a three-year OMB clearance extension of collecting the NEDSS data. The table below outlines the annualized burden which consists of two components. The first component is “weekly reporting” (52 weeks annually). The second component is an end of year report titled “annual reporting”. The two components collectively represent the estimated annualized hours for the submitting jurisdictions.

There are no costs to respondents other than their time. The total estimated annual burden hours for the Weekly Morbidity Reports and the Annual Summary Report is 9,384.

Estimated Annualized Burden Hours
Respondents | Number of respondents | Number of responses per respondent | Average burden per response (in hours)
Weekly Reporting
States | 50 | 52 | 3
Territories | 5 | 52 | 1.5
Cities | 2 | 52 | 3
Annual Reporting
States | 50 | 1 | 16
Territories | 5 | 1 | 10
Cities | 2 | 1 | 16

Dated: October 7, 2010.
Carol Walker,
Acting Reports Clearance Officer, Centers for Disease Control and Prevention.

[FR Doc. 2010-25916 Filed 10-14-10; 8:45 am]

BILLING CODE 4163-18-P